DEPARTMENT OF COMMERCE

National Oceanic and Atmospheric Administration

RIN 0648-XA440

National Policy for Distinguishing Serious From Non-Serious Injuries of Marine Mammals

AGENCY: National Marine Fisheries Service (NMFS), National Oceanic and Atmospheric Administration (NOAA), Commerce.

ACTION: Notice of availability; response to comments.

SUMMARY: NMFS developed a final national policy, comprised of a Policy Directive and associated Procedural Directive, for distinguishing serious from non-serious injuries of marine mammals. The Directives provide technical guidance for analyzing marine mammal injury reports (e.g., observer, disentanglement, and stranding program reports) and incorporating the results into marine mammal stock assessment reports and marine mammal conservation management regimes (e.g., Marine Mammal Protection Act List of Fisheries, take reduction plans, ship speed regulations). NMFS is releasing its final Policy and Procedural Directives and responding to comments on the draft policy.

DATES: This final policy will be effective as of January 27, 2012.

ADDRESSES: The Policy and Procedural Directives for distinguishing serious from non-serious injuries of marine mammals, and NMFS' responses to public comments received on the draft Directives, may be viewed and downloaded at http://www.nmfs.noaa.gov/pr/laws/mmpa/ under “Policies, Guidances and Regulations”. Copies of the Policy and Procedural Directives may also be requested from Chief, Division of Marine Mammal and Sea Turtle Conservation, Office of Protected Resources, NMFS, 1315 East West Hwy, Silver Spring, MD 20910.

FOR FURTHER INFORMATION CONTACT: Chief, Division of Marine Mammal and Sea Turtle Conservation, Office of Protected Resources, (301) 427-8402.

SUPPLEMENTARY INFORMATION: The Policy Directive and associated Procedural Directive provide technical guidance for analyzing marine mammal injury reports and incorporating the results into marine mammal stock assessment reports and marine mammal conservation management regimes.

Dated: January 17, 2012.
James H. Lecky,
Director, Office of Protected Resources, National Marine Fisheries Service.

[FR Doc. 2012-1261 Filed 1-20-12; 8:45 am]

BILLING CODE 3510-22-P